DEPARTMENT OF HEALTH AND HUMAN SERVICES

Centers for Disease Control and Prevention

[Program Announcement 00098]

Grant To Support Natural Products Research on Phytomedicines at The University of Mississippi; Notice of Availability of Funds

A. Purpose

The Centers for Disease Control and Prevention (CDC) announces the availability of fiscal year (FY) 2000 funds for a grant program to Support Natural Products Research on Phytomedicines at the University of Mississippi.

B. Eligible Applicant(s)

Single Source

Assistance will be provided only to the National Center for Natural Products Research, Thad Cochran Research Center, University of Mississippi. No other applications are solicited. The Conference Report accompanying Public Law 106-113 (H.R. 3194), Consolidated Appropriations Act, 2000, found at H.R. Rep. No. 106-479, at 599 (1999) specified these funds for the University of Mississippi to establish a program to identify candidate phytomedicines for clinical evaluation.

C. Availability of Funds

Approximately $1,823,000 is available in FY 2000 to fund one award. It is expected that the award will begin on or about September 30, 2000 and will be made for a 12-month budget period within a project period of up to three years.

D. Where To Obtain Additional Information

Business management technical assistance may be obtained from: Van A. King, Grants Management Specialist, Grants Management Branch, Procurement and Grants Office, Centers for Disease Control and Prevention (CDC), Announcement [00098], 2920 Brandywine Road, Room 3000, Atlanta, GA 30341, Telephone Number (770) 488-2751, Email Address vbk5@cdc.gov.

Program technical assistance may be obtained from: Earl Ford, Division of Nutrition and Physical Activity, National Center for Chronic Disease Prevention and Health Promotion, Centers for Disease Control and Prevention (CDC), 4770 Buford Highway, MS K-26, Atlanta, GA 30341-3724, Telephone Number (770)488-6015, Email Address EFord@cdc.gov.

Dated: June 8, 2000.
Henry S. Cassell, III,
Acting Director, Procurement and Grants Office, Centers for Disease Control and Prevention (CDC).

[FR Doc. 00-14943 Filed 6-13-00; 8:45 am]

BILLING CODE 4163-18-P